FEDERAL COMMUNICATIONS COMMISSION

Notice of Public Information Collection(s) Being Reviewed by the Federal Communications Commission, Comments Requested

August 16, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 23, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0625.

Title: Amendment of the Commission's Rules to Establish New Personal Communications Services (Interference Protection).

Form No.: N/A.

Type of Review: Revision of a currently approved collection.

Respondents: Individuals or households; business or other for-profit; not-for-profit institutions; and state, local or tribal government.

Number of Respondents: 100.

Estimated Time Per Response: 2 hours.

Frequency of Response: On occasion.

Total Annual Burden: 200 hours.

Total Annual Cost: $40,000.00.

Needs and Uses: Section 24.237 requires that the results of the coordination process between incumbent microwave users and PCS licensees be reported to the Commission only if the parties fail to agree. Additionally, the Commission requires that each broadband PCS licensee perform an engineering analysis to assure that the proposed facilities will not cause interference to existing OFS stations within the specified coordination distance of a magnitude greater than a specified criteria, unless there is prior agreement with the affected OFS licensee. This collection is revised because the requirement in Section 24.204 was eliminated and removed from the Commission's rules.

OMB Control No.: 3060-0626.

Title: Regulatory Treatment of Mobile Services.

Form No.: N/A.

Type of Review: Extension of a currently approved collection.

Respondents: Business or other for-profit.

Number of Respondents: 1,074.

Estimated Time Per Response: 1-10 hours.

Frequency of Response: On occasion.

Total Annual Burden: 6,673 hours.

Needs and Uses: This information collection provides the Commission with technical, operational and licensing data for common carriers and private mobile radio services. This information is necessary to establish regulatory symmetry among similar mobile services.

Federal Communications Commission.
William F. Caton,
Deputy Secretary.

[FR Doc. 00-21411 Filed 8-21-00; 8:45 am]

BILLING CODE 6712-01-P